FEDERAL HOUSING FINANCE BOARD

[No. 2001-N-3]

Extension of Time to File Requests to Intervene and Expansion of Permissible Intervenors In Connection With Petition for Case-by-Case Determination—Membership Based on Convenience Under the Federal Home Loan Bank Act and the Federal Housing Finance Board's Regulations

AGENCY: Federal Housing Finance Board.

ACTION: Notice of Extension of Time to File Requests to Intervene and Expansion of Permissible Intervenors.

SUMMARY: The Federal Housing Finance Board (Finance Board) has waived the 45-day deadline for filing Requests to Intervene in the Finance Board's Procedures Regulation, and extended the deadline for an additional 30 days, i.e., to February 24, 2001, in connection with the Federal Home Loan Bank (Bank) of Dallas' Petition for Case-by-Case Determination (Petition). Because February 24 is a Saturday, Requests to Intervene due on February 24 may be filed on the next business day, i.e., February 26, 2001. The Finance Board also has waived the provisions of the Procedures Regulation that would limit the persons eligible to file a Request to Intervene, to allow any interested persons to file a Request to Intervene in connection with the Dallas Bank Petition.

ADDRESSES: Send Requests to Intervene to: Elaine L. Baker, Secretary to the Board, at the Federal Housing Finance Board, 1777 F Street, NW., Washington, DC 20006. Copies of non-confidential portions of the Petition and of non-confidential portions of Requests to Intervene will be available for inspection at this address.

FOR FURTHER INFORMATION CONTACT: James L. Bothwell, Managing Director and Chief Economist, (202) 408-2821; Scott L. Smith, Acting Director, Office of Policy, Research and Analysis, (202) 408-2991; Deborah F. Silberman, General Counsel, (202) 408-2570, Sharon B. Like, Senior Attorney-Advisor, (202) 408-2930, Office of General Counsel. Staff also can be reached by regular mail at the Federal Housing Finance Board, 1777 F Street, NW., Washington, DC 20006.

SUPPLEMENTARY INFORMATION: The Dallas Bank filed the Petition, dated December 8, 2000, and received by the Finance Board on December 11, 2000, requesting that the Finance Board approve the membership of Washington Mutual Bank, FA (WMBFA), currently a member of the San Francisco Bank, in the Dallas Bank upon completion of the merger of Bank United into WMBFA, under section 4(b) of the Federal Home Loan Bank Act (Bank Act) and § 925.18(a)(2) of the Finance Board's regulations, thereby allowing WMBFA to be a member of both the San Francisco and Dallas Banks. See 12 U.S.C. 1424(b); 12 CFR 925.18(a)(2). On December 27, 2000, the Finance Board published a Notice of Receipt of the Petition (Notice) in the Federal Register. 65 FR 81861 (Dec. 27, 2000). The Notice stated, among other things, that, pursuant to the Finance Board's Procedures Regulation, 12 CFR part 907, any member, Bank, or the Office of Finance may file a Request to Intervene in consideration of the Petition in accordance with 12 CFR 907.11 if it believes its rights may be affected by the issues raised by the Petition. The Notice stated that any Request to Intervene must be in writing and must be filed with the Secretary to the Finance Board within 45 days from the date the Petition was filed, i.e., by January 25, 2001. See 12 CFR 907.11(a)(1).

Potential intervenors have requested an extension of time of 45 days within which to file Requests to Intervene, on the basis that additional time is needed to fully consider the ramifications of the fundamental legal, political and policy issues of first impression raised by the Petition that are critical to the structure and function of the Bank System. In addition, persons not otherwise listed as parties eligible to file a Request to Intervene under § 907.8(b) of the Finance Board's Procedures Regulation have inquired whether they could be granted permission to file a Request to Intervene. See 12 CFR 907.8(b).

After consideration of the above requests and the importance of the issues raised by the Petition, pursuant to § 907.15(a) of the Finance Board's Procedures Regulation, the Finance Board has waived the 45-day deadline for filing Requests to Intervene in § 907.11(a)(1), and extended the deadline for an additional 30 days, i.e., to February 24, 2001; because February 24 is a Saturday, Requests to Intervene due on February 24 may be filed on the next business day, i.e., February 26, 2001. See 12 CFR 907.11(a)(1), 907.15(a). The Finance Board also has waived the provisions of § 907.8(b) that would limit the persons eligible to file a Request to Intervene, to allow any interested persons to file a Request to Intervene in connection with the Dallas Bank Petition. See 12 CFR 907.8(b).

Dated: January 18, 2001.
By the Federal Housing Finance Board.
James L. Bothwell,
Managing Director.

[FR Doc. 01-2129 Filed 1-23-01; 8:45 am]

BILLING CODE 6725-01-P